DEPARTMENT OF THE INTERIOR

Bureau of Land Management

[LLIDT03000.L58740000.EU0000.LXSS028D0000; IDI-35790]

Notice of Realty Action; Direct Sale of Public Lands in Lincoln County, ID

AGENCY: Bureau of Land Management, Interior.

ACTION: Notice of realty action.

SUMMARY: The Bureau of Land Management (BLM) proposes to sell a parcel of public land totaling 40 acres in Lincoln County, Idaho, to the owner of the surrounding private land for the appraised fair market value of $14,000. The private land surrounding the public land is owned by Alan Woodland.

DATES: Comments regarding the proposed sale must be received by the BLM August 5, 2010.

ADDRESSES: Written comments concerning the proposed sale should be sent to Ruth A. Miller, BLM Shoshone Field Manager, 400 West F Street, Shoshone, Idaho 83352.

FOR FURTHER INFORMATION CONTACT: Tara Hagen, Realty Specialist, BLM Shoshone Field Office, 400 West F Street, Shoshone, Idaho 83352 or (208) 732-7205.

SUPPLEMENTARY INFORMATION: The following described public land is being proposed for direct sale to Alan Woodland in accordance with Sections 203 and 209 of the Federal Land Policy and Management Act of 1976, as amended, (43 U.S.C. 1713 and 1719), at no less than the appraised fair market value:

Boise Meridian

T. 6 S., R. 22 E,

Sec. 29, SW¼SW¼.

The area described contains 40 acres in Lincoln County.

The appraised fair market value is $14,000. The public land is identified as suitable for disposal in the 1985 BLM Monument Resource Management Plan, as amended, and is not needed for any other Federal purposes. The direct sale will allow for the subject parcel to be formally consolidated with adjacent private property, the owner of which has currently holds a land use authorization (Cooperative Farm Management Agreement or Land Use Permit) for agricultural purposes. Disposal would alleviate the processing and administration of these land use authorizations, as well as generate funding pursuant to the Federal Land Transaction Facilitation Act (FLTFA) that can be utilized to purchase lands with higher resource values.

The identified public land was identified for disposal in an approved land use plan in effect on or before July 25, 2000; therefore, proceeds from this sale will be deposited into the Federal Land Disposal Account authorized under Section 206 of FLTFA. Under FLTFA, revenues generated from the sale or disposal of lands identified for disposal in land use plans as of July 25, 2000, are directed to an account that can be used by the BLM, the U.S. Forest Service, the National Park Service, and the U.S. Fish and Wildlife Service to purchase lands located within Federally designated areas or with higher resource values from willing sellers.

Regulations contained in 43 CFR 2711.3-3 make allowances for direct sales when a competitive sale is inappropriate and when the public interest would best be served by a direct sale, including the need to recognize an authorized use, such as an existing business which could suffer a substantial economic loss if the tract were purchased by someone other than the authorized user. In accordance with 43 CFR 2710, the BLM authorized officer finds that the public interest would best be served by authorizing the direct sale to Alan Woodland, which would allow the identified lands to be consolidated with Alan Woodland's adjacent private property to continue to be used for agricultural purposes.

It has been determined that the subject parcel contains no known mineral values; therefore, the BLM proposes that the conveyance of the Federal mineral interests occur simultaneously with the sale of the land. On August 25, 2008, the above described land was segregated from appropriation under the public land laws, including the mining laws. The segregation terminates (1) Upon issuance of a patent, (2) publication in the Federal Register of a termination of the segregation, or (3) 2 years from the date of segregation, whichever occurs first. The lands will not be sold until at least 60 days after the date of publication in the Federal Register. Alan Woodland will be required to pay a $50 nonrefundable filing fee for the conveyance of the available mineral interests. Any patent issued will contain the following terms, conditions, and reservations:

1. A reservation of right-of-way to the United States for ditches and canals constructed by the authority of the United States under the Act of August 30, 1890, 43 U.S.C. 945;

2. A condition that the conveyance be subject to all valid existing rights of record;

3. A notice and indemnification statement under the Comprehensive Environmental Response, Compensation and Liability Act (42 U.S.C. 9620(W)), indemnifying and holding the United States harmless from any release of hazardous materials that may have occurred; and

4. Additional terms and conditions that the authorized officer deems appropriate.

Detailed information concerning the proposed land sale including the appraisal, planning and environmental documents and a mineral report are available for review at the Shoshone Field Office at the location identified in the ADDRESSES section above. Normal business hours are 7:45 a.m. to 4:30 p.m., Monday through Friday, except for Federal holidays.

Public Comments: Public comments regarding the proposed sale may be submitted in writing to the BLM Shoshone Field Manager (see ADDRESSES section) on or before August 5, 2010. Comments received in electronic form, such as e-mail or facsimile, will not be considered. Any adverse comments regarding the proposed sale will be reviewed by the BLM Idaho State Director or other authorized official of the Department of the Interior, who may sustain, vacate, or modify this realty action in whole or in part. In the absence of timely filed objections, this realty action will become the final determination of the Department of the Interior.

Before including your address, phone number, e-mail address, or other personal identifying information in your comment, be advised that your entire comment—including your personal identifying information—may be made publicly available at any time. While you can ask us in your comment to withhold from public review your personal indentifying information, we cannot guarantee that we will be able to do so.

Authority: 43 CFR 2711.1-2(a) and (c).

Ruth A. Miller,
Shoshone Field Manager.

[FR Doc. 2010-14928 Filed 6-18-10; 8:45 am]

BILLING CODE 4310-GG-P